DEPARTMENT OF THE INTERIOR

Geological Survey

Request for Public Comments on Proposed Information Collection To Be Submitted to the Office of Management and Budget for Review Under the Paperwork Reduction Act

The proposal for the collection of information described below will be submitted to the Office of Management and Budget for approval under the provisions of the Paperwork Reduction Act (44 U.S.C. Chapter 35). Copies of the proposed collection of information and related forms may be obtained by contacting the Bureau's clearance officer at the phone number listed below. Comments and suggestions on the proposal should be made within 60 days directly to the Bureau clearance officer, U.S. Geological Survey, 807 National Center, 12201 Sunrise Valley Drive, Reston, Virginia 20192, telephone (703) 648-7313.

Specific public comments are requested as to:

1. Whether the collection of information is necessary for the proper performance of the functions on the bureaus, including whether the information will have practical utility;

2. The accuracy of the bureau's estimate of the burden of the collection of information, including the validity of the methodology and assumptions used;

3. The quality, utility, and clarity of the information to be collected; and

4. How to minimize the burden of the collection of information on those who are to respond, including the use of appropriate automated, electronic, mechanical, or other forms of information technology.

Title: Understanding Visitor Uses, Motives and Benefits at Sherburne National Wildlife Refuge.

OMB approval number: New collection.

Abstract: Respondents supply information through a mailed survey and onsite interviews on (1) their motivations for visiting Sherburne National Wildlife Refuge; (2) desired experiences and benefits they receive from Sherburne National Wildlife Refuge; (3) attitudes and perceptions of various management issues on Sherburne National Wildlife Refuge, and (4) the management actions and objectives they prefer for Sherburne National Wildlife Refuge. This information will be used to help improve the management and operation of Sherburne National Wildlife Refuge.

Bureau form number: Various.

Frequency: One time (2001).

Description of respondents: Visitors to Sherburne National Wildlife Refuge in the state of Minnesota.

Estimated completion time: 0.33 hours (20 minutes).

Annual responses: 1000.

Annual burden hours: 330.

Bureau clearance officer: John Cordyack 703-648-7313.

Dated: November 8, 2000.
Susan Haseltine,
Chief Scientist for Biology.

[FR Doc. 00-29392 Filed 11-15-00; 8:45 am]

BILLING CODE 4310-7Y-M